DEPARTMENT OF HEALTH AND HUMAN SERVICES

Centers for Medicare and Medicaid Services

[Document Identifier: CMS-10165]

Emergency Clearance: Public Information Collection Requirements Submitted to the Office of Management and Budget (OMB)

AGENCY: Center for Medicare and Medicaid Services, HHS.

In compliance with the requirement of section 3506(c)(2)(A) of the Paperwork Reduction Act of 1995, the Centers for Medicare and Medicaid Services (CMS), Department of Health and Human Services, is publishing the following summary of proposed collections for public comment. Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

We are, however, requesting an emergency review of the information collection referenced below. In compliance with the requirement of section 3506(c)(2)(A) of the Paperwork Reduction Act of 1995, we have submitted to the Office of Management and Budget (OMB) the following requirements for emergency review. We are requesting an emergency review because the collection of this information is needed before the expiration of the normal time limits under OMB's regulations at 5 CFR part 1320. This is necessary to ensure compliance with an initiative of the Administration. The approval of an emergency clearance process for the application associated with this demonstration is essential in order to prevent possible public harm that may result if the normal clearance procedures were followed. The use of the normal clearance procedures will limit improved quality of care to beneficiaries.

The Medicare Care Management Performance (MCMP) Demonstration and its corresponding Report to Congress are mandated by the section 649 of the Medicare Prescription Drug, Improvement, and Modernization Act of 2003 (MMA). Section 649 of the MMA provides for the implementation of a “pay for performance” demonstration under which Medicare would pay incentive payments to physicians who (1) adopt and use health information technology; and (2) meet established standards on clinical performance measures. This demonstration will be held in four States, Arkansas, California, Massachusetts, and Utah. Providers that are enrolled in the Doctors' Office Quality—Information Technology (DOQ-IT) project are eligible to participate in the demonstration.

To enroll in the MCMP Demonstration, a physician/provider must submit an application form. The information collected will be used to assess eligibility for the demonstration. The MCMP Demonstration is scheduled to start in August 2005. We are requesting emergency clearance so this application can be utilized to enroll practices into the congressionally mandated and administration priority demonstration project in a timely manner.

CMS is requesting OMB review and approval of this collection by August 19, 2005, with a 180-day approval period. Written comments and recommendation will be accepted from the public if received by the individuals designated below by August 15, 2005.

To obtain copies of the supporting statement and any related forms for the proposed paperwork collections referenced above, access CMS' Web site address at http://www.cms.hhs.gov/regulations/pra or E-mail your request, including your address, phone number, OMB number, and CMS document identifier, to Paperwork@cms.hhs.gov, or call the Reports Clearance Office on (410) 786-1326.

Interested persons are invited to send comments regarding the burden or any other aspect of these collections of information requirements. However, as noted above, comments on these information collection and recordkeeping requirements must be mailed and/or faxed to the designees referenced below by August 15, 2005:

Centers for Medicare and Medicaid Services, Office of Strategic Operations and Regulatory Affairs, Room C4-26-05, 7500 Security Boulevard, Baltimore, MD 21244-1850, Fax Number: (410) 786-5267, Attn: William N. Parham, III, CMS-10165 and,

OMB Human Resources and Housing Branch, Attention: Christopher Martin, New Executive Office Building, Room 10235, Washington, DC 20503.

Dated: July 12, 2005.
Michelle Shortt,
Acting Director, Regulations Development Group, Office of Strategic Operations and Regulatory Affairs.

[FR Doc. 05-14149 Filed 7-14-05; 12:15 pm]

BILLING CODE 4120-01-P